DEPARTMENT OF THE INTERIOR

Bureau of Indian Affairs

Notice of Intent To Prepare an Environmental Impact Statement for the Proposed Big Sandy Casino and Resort Project, Fresno County, CA

AGENCY: Bureau of Indian Affairs, Interior.

ACTION: Notice.

SUMMARY: This notice advises the public that the Bureau of Indian Affairs (BIA) has replaced the National Indian Gaming Commission (NIGC) as lead agency in the preparation of an Environmental Impact Statement (EIS) for a proposed casino and hotel project to be located near Friant, in Fresno County, California. The BIA, with the Big Sandy Rancheria Band of Western Mono Indians (Tribe) as a cooperating agency, intends to gather information necessary for preparing the EIS. The NIGC initiated the public scoping process, including a public scoping meeting on September 15, 2005, to determine the issues, concerns and alternatives to be included in the EIS. The BIA is hereby continuing that process, but as project plans have not changed since the September 15, 2005, meeting, will not be holding additional public scoping meetings.

DATES: Written comments on the scope and implementation of this proposal must arrive by November 4, 2008.

ADDRESSES: You may mail or hand carry written comments to Dale Morris, Regional Director, Pacific Regional Office, Bureau of Indian Affairs, 2800 Cottage Way, Sacramento, CA 95825. Please include your name, return address and the caption “DEIS Scoping Comments, Big Sandy Casino and Resort Project, Fresno County, California,” on the first page of your written comments.

FOR FURTHER INFORMATION CONTACT: John Rydzik, (916) 978-6051.

SUPPLEMENTARY INFORMATION: The proposed project will be located east of Friant in Fresno County, California, on undeveloped foothill property comprising approximately 48 acres of allotted Indian land currently held in trust by the United States for the beneficial interest of an individual member of the Tribe. The Tribe and the individual Indian allotee have executed and submitted for BIA approval a lease agreement granting use of the property to the Tribe for the development of a casino, resort hotel, and supporting facilities. The BIA's proposed federal action is the approval of this lease agreement.

The Big Sandy Rancheria is a federally recognized Indian Tribe with a land base near Auberry, California. The Tribe has approximately 450 members and is governed by a Tribal Council consisting of five members, under a federally approved constitution. The Big Sandy Rancheria currently has a federally approved tribal-state gaming compact with the State of California.

Public Comment Availability

Comments, including names and addresses of respondents, will be available for public review at the mailing address shown in the ADDRESSES section, during regular business hours, 8 a.m. to 4:30 p.m., Monday through Friday, except holidays. Before including your address, telephone number, e-mail address or other personal identifying information in your comment, you should be aware that your entire comment—including your personal identifying information—may be made publicly available at any time. While you can ask us in your comment to withhold your personal identifying information from public review, we cannot guarantee that we will be able to do so.

Authority

This notice is published in accordance with sections 1501.7 and 1506.6 of the Council of Environmental Quality regulations (40 CFR parts 1500 through 1508) implementing the procedural requirements of the National Environmental Policy Act of 1969, as amended (42 U.S.C. 4371 et seq.), the Department of the Interior Manual (516 DM 1-6), and is in the exercise of authority delegated to the Assistant Secretary—Indian Affairs by 209 DM 8.1.

Dated: May 2, 2008.
Carl J. Artman,
Assistant Secretary—Indian Affairs.

Editorial Note: This document was received in the Office of the Federal Register on September 30, 2008.

[FR Doc. E8-23448 Filed 10-2-08; 8:45 am]

BILLING CODE 4310-W7-P